DEPARTMENT OF AGRICULTURE

Submission for OMB Review; Comment Request

April 29, 2004.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Foreign Agricultural Service

Title: Commodity Credit Corporation's Facility Guarantee Program (FGP).

OMB Control Number: 0551-0032.

Summary of Collection: Under the authority of 7 CFR Part 1493, Subpart C, the Facility Guarantee Program (FGP) offers credit guarantees to facilitate the financing of U.S. manufactured goods and services to improve or establish agriculture infrastructure in emerging markets. Sales under FGP are considered normal commercial sales. The FGP makes available export credit guarantees to encourage U.S. private sector financing of foreign purchase of U.S. goods and services on credit terms.

Need and Use of the Information: The Foreign Agricultural Service (FAS) will collect information to determine eligibility for FGP benefits, the impact on U.S. agricultural trade and to ensure Commodity Credit Corporation (CCC) that all participants have a business office in the U.S. and are not debarred or suspended from participating in government programs. The information requested will provide CCC with adequate information to meet statutory requirements. If the information were not collected, CCC would be unable to determine if export sales under the FGP would be eligible for coverage or, if coverage conformed to program requirements.

Description of Respondents: Business or other for-profit.

Number of Respondents: 5.

Frequency of Responses: Recordkeeping; Reporting; On occasion.

Total Burden Hours: 329.

Food and Nutrition Service

Title: The Integrity Program (TIP) Data Collection.

OMB Control Number: 0584-0401.

Summary of Collection: The basis for this data collection and reporting system is Part 246.5 of the Women, Infant, and Children (WIC) Program regulations, which requires State agencies to report annually on their vendor monitoring efforts. The data collected from the States serves as a management tool to provide Congress, OIG senior program managers, as well as the general public, assurances that program funds are spent appropriately and that every reasonable effort is made to prevent, detect and eliminate fraud, waste and abuse.

Need and Use of the Information: The information collected by FNS is used to analyze trends, to identify possible vendor management deficiencies, to formulate program policy and regulations. At the State level, the information is used to provide assurances to the Governor's office, and other interested parties, that WIC issues are being addressed.

Description of Respondents: State, Local or Tribal Government.

Number of Respondents: 88.

Frequency of Responses: Reporting: Annually.

Total Burden Hours: 3,725.

Food and Nutrition Service

Title: Summary Food Service Program Survey.

OMB Control Number: 0584-NEW.

Summary of Collection: The U.S. Department of Agriculture's Food and Nutrition Service (FNS) administers food programs that provide nutritionally balanced meals and snacks for eligible children who are 6 through 18 years of age. The Summer Food Service Program (SFSP), which is administered by FNS, was designed to meet the summer food needs of eligible children who qualify for free or reduced-price breakfasts and lunches during the regular school year. During the summer months, federally funded meals are available through the SFSP at state-approved sites. Of the 15 million eligible children, only about 1.9 million (14%) participated in the SFSP in July 2002. Another 1.4 million of the 15 million eligible students (9%) who attended summer school or year-round schools in July 2002 were served free or reduced-price meals through NSLP. FNS is committed to ensuring adequate nutrition in the summer for children who are eligible for the free or reduced-price breakfast and lunch programs during the regular school year. FNS is interested in determining why children who are eligible for SFSP do not participate in the program.

Need and Use of the Information: FNS will collect information to understand the reasons for the discrepancies in participation rates between the breakfast and lunch programs during the regular school year and the SFSP. The results will enable policy-makers in and out of government to better understand what program initiatives might be effective in increasing participation rates in SFSP. Without the data collection, FNS does not have the necessary information for developing strategies to increase SFSP participation and to ensure that NLSP and SBP eligible school age children have nutritious meals during the summer months. Also, the research will contribute to an understanding of how the food needs of the non-participants in SFSP are being met in the summer.

Description of Respondents: Individuals or households.

Number of Respondents: 546.

Frequency of Responses: Reporting: Other (one time).

Total Burden Hours: 147.

Cooperative State Research, Education, and Extension Service

Title: Reporting Requirements for State Plans of Work for Agricultural Research and Extension Formula Funds.

OMB Control Number: 0524-0036.

Summary of Collection: Section 202 and 225 of the Agricultural Research, Extension, and Education Reform Act of 1998 (AREERA) requires that a plan of work must be submitted by each institution and approved by the Cooperative State Research, Education, and Extension Service (CSREES) before formula funds may be provided to the 1862 and 1890 land-grant institutions. The plan of work must address critical agricultural issues in the State and describe the programs and project targeted to address these issues using the CSREES formula funds. The plan of work also must describe the institution's multi-state activities as well as their integrated research and extension activities.

Need and Use of the Information: Institutions are required to annually report to CSREES the following: (1) The actions taken to seek stakeholder input to encourage their participation; (2) a brief statement of the process used by the recipient institution to identify individuals or groups who are stakeholders and to collect input from them; and (3) a statement of how collected input was considered. CSREES uses the information to provide feedback to the institutions on how to improve the conduct and the delivery of their programs. Failure to comply with the requirements may result in the withholding of a recipient institution's formula funds and redistribution of its share of formula funds to other eligible institutions.

Description of Respondents: Not-for-profit institutions; State, Local or Tribal Government.

Number of Respondents: 75.

Frequency of Responses: Reporting: Annually.

Total Burden Hours: 160,860.

Rural Housing Service

Title: Notice of Funds Availability (NOFA) Inviting Applications for the Rural Community Development Initiative (RCDI).

OMB Control Number: 0575-0180.

Summary of Collection: Congress created the Rural Community Development Initiative (RCDI) in fiscal year 2000 and funds were appropriated under the Rural Community Advancement Program. The intent of the RCDI grant program is to develop the capacity and ability of rural area recipients to undertake projects through a program of financial and technical assistance provided by qualified intermediary organizations. Intermediaries are required to provide matching funds in an amount equal to the RCDI grant. Eligible recipients are private, nonprofit community-based housing and community development organizations and low-income rural communities.

Need and Use of the Information: The Rural Housing Service will collect information to determine applicant/grantee eligibility, project feasibility, and to ensure that grantees operate on a sound basis and use grant funds for authorized purposes. Failure to collect this information could result in improper use of Federal funds.

Description of Respondents: Not-for-profit institutions; State, Local or Tribal Government.

Number of Respondents: 146.

Frequency of Responses: Recordkeeping; Reporting: Quarterly; Annually, Third party disclosure.

Total Burden Hours: 2,026.

Agricultural Marketing Service

Title: Poultry Market News report.

OMB Control Number: 0581-0033.

Summary of Collection: 7 U.S.C. provides authorization to collect and disseminate marketing information and to provide adequate outlook information on a market-area basis for the purpose of anticipating and meeting consumer requirements, to aid in the maintenance of farm income and bring about a balance between production and utilization of agricultural products. In 1951, Congress approved a program for the development of Federal-State Market News Services. The Market News Branch headquarters in Washington, DC, is responsible for coordinating the market news program. The mission of market news is to provide current, unbiased, factual information to all members of the nation's agricultural industry, from farmers to retailers.

Need and Use of the Information: Industry participants are provided with up-to-date information on the movement of product and the amount of product in storage on a current basis, so that necessary adjustment in product flow can be made. If this information were collected less frequently, it would result in “stale” data that would be of little to no use to industry and public concerns.

Description of Respondents: Business or other for-profit; Not-for-profit institutions; Individuals or households; Farms.

Number of Respondents: 1,710.

Frequency of Responses: Reporting: Monthly; Weekly.

Total Burden Hours: 17,647.

Forest Service

Title: Annual Wildfire Report.

OMB Control Number: 0596-0025.

Summary of Collection: The Cooperative Forestry Assistance Act of 1978 (U.S.C. 2101) requires the Forest Service (FS) to collect information about wildfire suppression efforts by State and local fire fighting agencies in order to support specific congressional funding requests for the Forest Service State and Private Forestry Cooperative Fire Program. The program provides supplemental funding for State and local fire fighting agencies. The FS works cooperatively with State and local fire fighting agencies to support their fire suppression efforts. FS will collect information using form FS 3100-8, Annual Wildfire Summary Report.

Need and Use of the Information: FS will collect information to determine if the Cooperative Fire Program funds provided to the State and local fire fighting agencies have been used by State and local agencies to improve their fire suppression capabilities. The information collected will be shared with the public about the importance of the State and Private Cooperative Fire Program. FS would be unable to assess the effectiveness of the State and Private Forestry Cooperative Fire Program, if the information provided on FS-3100-8 were not collected.

Description of Respondents: Federal Government; State, Local or Tribal Government.

Number of Respondents: 55.

Frequency of Responses: Reporting: Annually.

Total Burden Hours: 55.

Rural Business Service

Title: 7 CFR 4279-B, Guaranteed Loan Making—Business and Industry Loans.

OMB Control Number: 0570-0017.

Summary of Collection: The Business and Industry (B&I) program was legislated in 1972 under Section 310B of the Consolidated Farm and Rural Development Act, as amended. The purpose of the program is to improve, develop, or finance businesses, industries, and employment and improve the economic and environmental climate in rural communities. This purpose is achieved through bolstering the existing private credit structure through the guaranteeing of quality loans made by lending institutions, thereby providing lasting community benefits. The B&I program is administered by the Rural Business Service (RBS) through Rural Development State and sub-State offices serving each State.

Need and Use of the Information: RBS will collect information to determine eligibility and creditworthiness for lenders and borrowers. The information is used by RBS loan officers and approval officials to determine program eligibility and for program monitoring.

Description of Respondents: Business or other for-profit; State, Local or Tribal Government.

Number of Respondents: 8,544.

Frequency of Responses: Reporting: On occasion.

Total Burden Hours: 19,761.

Forest Service

Title: Timber Purchasers' Cost and Sales Date.

OMB Control Number: 0596-0017.

Summary of Collection: The Multi-Use Sustained Yield Act of 1960, the Forest Rangeland Renewable Resources Planning Act of 1974, and the National Forest Management Act of 1976, authorizes the Forest Service (FS) to sell forest products and National Forest System timber. FS timber and product appraisers develop advertised timber and product sale prices using residual and transaction evidence method of appraisal. Residual appraisals begin through the collection of production cost data. Transaction evidence appraisals begin with an average of past successful bids by timber purchasers for timber for which the stumpage rate has been adjusted for the timber sale and market conditions at the time. FS collects the data from timber sales and product purchases through submissions by contractors both locally and nationally. There are no forms required for the collection of costs data.

Need and Use of the Information: FS will collect information to verify that the minimum rates returned a fair value to the Government and that the residual and transaction system are a reliable approach to valuing timber and products. The information is also used to assure the accuracy of the residual and transaction system and to develop minimum stumpage rates for small sales or for areas where there is no current sale activity to use for transaction evidence. If the information is not collected, FS would have difficulties in determining if the value received from products really reflects the true market value.

Description of Respondents: Business or other for-profit.

Number of Respondents: 35.

Frequency of Responses: Reporting: On occasion.

Total Burden Hours: 70.

Agricultural Marketing Service

Title: 7 CFR Part, 70. Regulations for Voluntary Grading of Poultry Products and Rabbit Products.

OMB Control Number: 0581-0127.

Summary of Collection: The Agricultural Marketing Act of 1946 (60 Stat. 1087-1091, as amended; 7 U.S.C. 1621-1627) (AMA) directs and authorizes the Department to develop standards of quality, grades, grading programs, and services to enable a more orderly marketing of agricultural products so trading may be facilitated and consumers may be able to obtain products graded and identified under USDA programs. Regulations in 7 CFR Part 70 provide for a voluntary program for grading poultry and rabbits on the basis of U.S. classes, standards and grades. The Agricultural Marketing Service (AMS) carries out the regulations, which provide a voluntary program for grading poultry and rabbit products. This program is voluntary where respondents would need to request or apply for the specific service they wish.

Need and Use of the Information: Since the AMA requires that the cost of the service be assessed and collected, there is no alternative but to provide voluntary programs on a fee for service basis and to collect the information needed to establish the costs. Only authorized representatives of the USDA use the information collected to administer the grading services requested by the respondents.

Description of Respondents: Business or other for profit; Federal Government; State, Local or Tribal Government.

Number of Respondents: 361.

Frequency of Responses: Reporting: On occasion; Semi-annually; Monthly; Annually; Other (Daily).

Total Burden Hours: 1,753.

Rural Housing Service

Title: 7 CFR 1927-B, “Real Estate Title Clearance and Loan Closing.”

OMB Control Number: 0575-0147.

Summary of Collection: Rural Development and the Farm Service Agency are the credit agencies for the Department of Agriculture. They offer a supervised credit program to build family farms, modest housing, sanitary water and sewer systems, essential community facilities, businesses and industries in rural areas. Section 306 of the Consolidated Farm and Rural Development Act (CONTACT), 7 U.S.C. 1926, authorizes RUS to make loans to public agencies, American Indian tribes, and non-profit corporations. The loans fund the development of drinking water, wastewater, and solid waste disposal facilities in rural areas with populations of up to 10,000 residents. Section 501 of Title V of the Housing Act provides authorization to extend financial assistance to construct, improve, alter, repair, replace or rehabilitate dwellings and to provide decent, safe and sanitary living conditions in rural areas. The Secretary of Agriculture is authorized to prescribe regulations to ensure that these loans made with federal funds are legally secured.

Need and Use of the Information: The approved attorney/title company (closing agent) and the field office staff collect the required information. Forms and or guidelines are provided to assist in the collection, certification and submission of this information. Most of these forms collect information that is standard in the industry. If the information is collected less frequently, the agency would to obtain the proper security position on the properties being taken as security and would have no evidence that the closing agents and agency met the requirements of this regulation.

Description of Respondents: Individuals or households; Business or other for-profit, Not-for-profit institutions; Farms.

Number of Respondents: 41,642.

Frequency of Responses: Reporting: On occasion.

Total Burden Hours: 28,578.

Sondra Blakey,
Departmental Information Collection Clearance Officer.

[FR Doc. 04-10280 Filed 5-5-04; 8:45 am]

BILLING CODE 3410-01-M